OFFICE OF MANAGEMENT AND BUDGET

Cumulative Report of Rescissions Proposals Pursuant to the Congressional Budget and Impoundment Control Act of 1974

AGENCY: Office of Management and Budget, Executive Office of the President.

ACTION: Notice of monthly cumulative report pursuant to the Congressional Budget and Impoundment Control Act of 1974.

SUMMARY: Pursuant to the Congressional Budget and Impoundment Control Act of 1974, OMB is issuing a monthly cumulative report (for August 2025) from the Director detailing the status of rescission proposals that were previously transmitted to the Congress on June 3, 2025.

DATES: Release Date: August 8, 2025.

ADDRESSES: The August 2025 cumulative report is available on-line on the OMB website at: https://www.whitehouse.gov/omb/information-resources/legislative/supplementals-amendments-and-releases/.

FOR FURTHER INFORMATION CONTACT: Jason Hoffman, 252 Eisenhower Executive Office Building, Washington, DC 20503, Email address: Jason.M.Hoffman@omb.eop.gov, telephone number: (202) 456-1414. Because of delays in the receipt of regular mail related to security screening, respondents are encouraged to use electronic communications.

Russell T. Vought,
Director.

[FR Doc. 2025-15328 Filed 8-12-25; 8:45 am]

BILLING CODE 3110-01-P